DEPARTMENT OF AGRICULTURE

Forest Service

Battle Park/Mistymoon Allotment Management Plan on the Powder River Ranger District, Bighorn National Forest, Big Horn County, WY

AGENCY: Forest Service, USDA.

ACTION: Notice of intent to prepare an environmental impact statement.

SUMMARY: The USDA, Forest Service, will prepare an environmental impact statement (EIS) to update range management planning on the Battle Park Cattle and Horse allotment and the Mistymoon Sheep and Goat livestock grazing allotment, which will result in development of new allotment management plans (AMPs). The agency gives notice of the full environmental analysis and decision-making process that will occur on the proposal so that interested and affected people may become aware of how they may participate in the process and contribute to the final decision.

DATES: Comments and input regarding the proposal were requested from the public, other groups and agencies via direct mailing on August 16, 2004. Additional comments may be made at the addresses below, and would be most helpful if submitted within thirty days of the publication of this notice. Based on the comments received and preliminary analysis, the Responsible Official has determined that an environmental impact statement will be prepared for this project. The draft environmental impact statement is expected in May 2007 and the final environmental impact statement is expected September 2007.

ADDRESSES: Send written comments and suggestions concerning this proposal to Mark Booth, District Ranger, Powder River Ranger District, Bighorn National Forest, 1415 Fort Street, Buffalo, Wyoming 82834.

FOR FURTHER INFORMATION CONTACT: Direct questions to Bernie Bornong, Interdisciplinary Team Leader, Bighorn National Forest, 2013 Eastside 2nd Street, phone (307) 674-2600.

SUPPLEMENTARY INFORMATION: The allotments are located approximately 50 miles, by road, northeast of Worland, Wyoming in the Bighorn River drainage. National Forest System land within the Bighorn National Forest will be considered in the proposal. The purpose of the analysis is to determine if livestock grazing will continue on the analysis area. If the decision is to continue livestock grazing, then updated management strategies outlining how livestock will be grazed will be developed to assure implementation of Forest Plan management direction. The analysis will consider actions that continue to improve trends in vegetation, watershed conditions, and ecological sustainability relative to livestock grazing within the allotments. Management actions are proposed to be implemented beginning in the year 2008.

The Bighorn National Forest Land and Resource Management Plan (Forest Plan) identifies livestock grazing as an appropriate use and makes initial determinations for lands capable and suitable for grazing by domestic livestock.

Purpose and Need for Action: The purpose of this project is to determine if livestock grazing will continue to be authorized on the Battle Park and Mistymoon allotments, and if it is to continue, how to best utilize adaptive management strategies to maintain or achieve desired conditions and meet forest plan objectives. Livestock grazing is currently occurring on the Battle Park allotment under the existing allotment management plan (AMP) and through direction provided in the Annual Operating Instructions. The Mistymoon allotment is currently vacant. Continuation of livestock grazing will require reviewing existing management strategies and, if necessary, updating them to implement forest plan direction and meet Section 504 of Public Law 104-19 (Rescission Bill, signed 7/27/95). The results of this analysis may require modifying term grazing permits and AMPs. Modifications will be documented in updated AMPs for the allotments.

Existing conditions in the analysis area present opportunities for additional activities. An additional purpose of this project is to maintain or move toward desired conditions for sagebrush/grassland communities; specifically, to maintain a mosaic of vegetation composition and structure that emulates, or moves toward, natural processes. The need to provide a mosaic of sagebrush cover densities has been identified in the project area.

Proposed Action: The proposed action is to continue livestock grazing using adaptive management strategies to meet or move toward Forest Plan and allotment-specific desired conditions. This includes changing livestock management strategies, constructing additional improvements (fences and water developments), and treating sagebrush. The Mistymoon allotment is currently vacant, and the proposed action is to combine the portion of this allotment that is determined to be suitable for cattle grazing with the Battle Park allotment.

Possible Alternatives: Two additional alternatives have been identified to date: (a) Remove livestock grazing from these allotments, and (b) Continue current management strategies.

Responsible Official: Mark Booth, District Ranger, Powder River Ranger District, Bighorn National Forest, 1415 Fort Street, Buffalo, Wyoming 82834.

Nature of Decision to be Made: The Responsible Official will consider the results of the analysis and its findings and then document the final decision in a Record of Decision (ROD). The decision will determine whether or not to authorize livestock grazing on all, part, or none of the allotments, and if so, what adaptive management design criteria, adaptive options, and monitoring will be implemented so as to meet or move toward the desired conditions in the defined timeframe.

Scoping Process: Formal scoping for this project occurred in August 2004. Since then, there has been correspondence and several meetings with individuals, permittees, State Agencies, environmental groups, and other interested people.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: March 14, 2007.
Mark Booth,
Powder River District Ranger.

[FR Doc. 07-1431 Filed 3-23-07; 8:45 am]

BILLING CODE 3410-11-M